DEPARTMENT OF COMMERCE

National Oceanic and Atmospheric Administration

50 CFR Parts 223 and 224

[Docket No. NOAA-NMFS-2012-0236]

RIN 0648-XC365

Endangered and Threatened Species; Extension of Public Comment Period Soliciting Information about Harbor Seals in Iliamna Lake, Alaska

AGENCY: National Marine Fisheries Service (NMFS), National Oceanic and Atmospheric Administration (NOAA), Commerce.

ACTION: Extension of public comment period.

SUMMARY: We, NMFS, are extending the public comment period soliciting information to inform our status review of Pacific harbor seals (Phoca vitulina richardii) in Iliamna Lake, Alaska. On May 17, 2013, we published a notice announcing a positive 90-day finding on a petition to list the harbor seals in Iliamna Lake as threatened or endangered under the Endangered Species Act (ESA), and we initiated a status review. As part of that notice, we solicited scientific and commercial information about the status of the seals and announced a 60-day comment period to end on July 16, 2013. Today, we extend the public comment period to August 16, 2013.

DATES: The deadline for receipt of comments is extended from July 16, 2013, to August 16, 2013.

ADDRESSES: You may submit comments about the harbor seals in Iliamna Lake, identified by FDMS Docket Number NOAA-NMFS-2012-0236, by any of the following methods:

• Electronic Submission: Submit all electronic public comments via the Federal e-Rulemaking Portal. Go to www.regulations.gov/#!docketDetail;D=NOAA-NMFS-2012-0236, click the “Comment Now!” icon, complete the required fields, and enter or attach your comments.

• Mail: Address written comments to Jon Kurland, Assistant Regional Administrator for Protected Resources, Alaska Region NMFS, Attn: Ellen Sebastian. Mail comments to P.O. Box 21668, Juneau, AK 99802-1668.

• Fax: Address written comments to Jon Kurland, Assistant Regional Administrator for Protected Resources, Alaska Region NMFS, Attn: Ellen Sebastian. Fax comments to 907-586-7557.

• Hand delivery to the Federal Building: Address written comments to Jon Kurland, Assistant Regional Administrator for Protected Resources, Alaska Region NMFS, Attn: Ellen Sebastian. Deliver comments to 709 West 9th Street, Room 420A, Juneau, AK.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Interested persons may obtain a copy of the petition online at the NMFS Alaska Region Web site: http://www.alaskafisheris.noaa.gov/protectedresources/seals/harbor.htm.

FOR FURTHER INFORMATION CONTACT: Mandy Migura, NMFS Alaska Region, (907) 271-1332; Jon Kurland, NMFS Alaska Region, (907) 586-7638; or Lisa Manning, NMFS Office of Protected Resources, (301) 427-8466.

SUPPLEMENTARY INFORMATION:

Background

On May 17, 2013, we published a notice (78 FR 29098) announcing a positive 90-day finding on a petition to list harbor seals in Iliamna Lake, Alaska under the ESA and initiated a status review. In that notice we also solicited comments and information from the public about the harbor seals in Iliamna Lake to be considered during the status review.

We have received a request from the Bristol Bay Native Association/Bristol Bay Marine Mammal Council to extend the public comment period by a minimum of 30 days. This extension would allow the communities of Bristol Bay and Iliamna Lake more time to comment because the current schedule overlaps with their summer subsistence and commercial fishing seasons. We considered this request and concluded that a 30-day extension should allow sufficient time for responders to submit comments without significantly delaying the completion of the status review. We are therefore extending the close of the public comment period from July 16, 2013, to August 16, 2013. Although we have extended the public comment period, we are unable to extend the deadline for completing the status review. As such, we urge members of the public to submit their comments as soon as possible to allow us more time to review and incorporate the submitted information where appropriate.

Authority: The authority for this action is the Endangered Species act of 1973, as amended (16 U.S.C. 1531 et seq.).

Dated: June 4, 2013.
Helen M. Golde,
Deputy Director, Office of Protected Resources, National Marine Fisheries Service.

[FR Doc. 2013-13514 Filed 6-6-13; 8:45 am]

BILLING CODE 3510-22-P